DEPARTMENT OF LABOR

Employment and Training Administration

Workforce Investment Act, 1998

AGENCY: Employment and Training Administration.

ACTION: Notice on Reallotment of Workforce Investment Act (WIA) Title I Formula Allotted Funds for Dislocated Worker Activities for Program Year (PY) 2005.

SUMMARY: Section 132(c) of the Workforce Investment Act (WIA) (Pub. L. 105-220), requires the Secretary to conduct reallotment of excess unobligated WIA Adult and Dislocated Worker formula funds based on state financial reports submitted as of the end of the prior program year. The procedures the Secretary uses for recapture and reallotment of funds are described in WIA regulations at 20 CFR 667.150. This notice publishes Dislocated Worker PY 2005 funds to be recaptured and amounts reallotted to eligible states. No PY 2005 Adult funds are being recaptured.

DATES: Effective Date: This notice is effective April 7, 2006.

FOR FURTHER INFORMATION CONTACT: Ms. Christine D. Kulick, at telephone number (202) 693-3937 (this is not a toll free number). U.S. Department of Labor, Employment and Training Administration, Room C-4510, 200 Constitution Avenue, NW., Washington, DC 20210; or transmit via fax (202) 693-3015.

SUPPLEMENTARY INFORMATION: Training and Employment Guidance Letter (TEGL) 23-04 advised states that the reallotment of funds under WIA will occur during PY 2005 based on state obligations made in PY 2004. WIA Adult and Youth PY 2005 funds are not subject to recapture because in no case do PY 2004 unobligated funds exceed the statutory requirement of 20 percent of state allotted funds. No WIA funds were recaptured and reallotted in PY 2004.

Excess unobligated state funds in the amount of $239,605 will be recaptured from PY 2005 formula allotted funds for the Dislocated Worker program for two states and distributed by formula as PY 2005 Dislocated Worker funds for eligible states. The methodology used for the calculation of the recapture/reallotment amounts and distribution of changes to PY 2005 formula allotments for Dislocated Worker activities are attached.

WIA section 132 (c) requires the Governor to prescribe equitable procedures for making funds available from the state and local areas in the event that a state is required to make funds available for reallotment.

Signed: at Washington, DC this 31st day of March, 2006.
Emily Stover DeRocco,
Assistant Secretary for Employment and Training.

BILLING CODE 4510-30-P

[FR Doc. 06-3342 Filed 4-6-06; 8:45 am]

BILLING CODE 4510-30-C